FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 012489N.

Name: Auto Express Lines, Inc.

Address: 12200 W. Colonial Drive, Winter Garden, FL 34787.

Date Revoked: March 31, 2004.

Reason: Surrendered license voluntarily.

License Number: 015090N.

Name: International Freight Logistics Ltd.

Address: 4 William Street, Lynbrook, NY 11563.

Date Revoked: May 26, 2004.

Reason: Failed to maintain a valid bond.

License Number: 016093N.

Name: Sovereign Express Line, LLC.

Address: 64-66 North Main Street, P.O. Box 1309, St. Albans, VT. 05478.

Date Revoked: May 21, 2004.

Reason: Failed to maintain a valid bond.

License Number: 017457NF.

Name: Starwood, Inc.

Address: 1352 NW 78th Avenue, Miami, FL 33126.

Date Revoked: May 19, 2004.

Reason: Failed to maintain valid bonds.

License Number: 015563N.

Name: Universal Consolidated Services, Inc.

Address: 145-32 157th Street, Suite 228, Jamaica, NY 11434.

Date: May 26, 2004.

Reason: Failed to maintain a valid bond.

Sandra L. Kusumoto,
Director, Bureau of Consumer Complaints and Licensing.

[FR Doc. 04-13061 Filed 6-8-04; 8:45 am]

BILLING CODE 6730-01-P